DEPARTMENT OF TRANSPORTATION

National Highway Traffic Safety Administration

[Docket No. NHTSA-2013-0081; Notice 2]

General Motors, LLC, Grant of Petition for Decision of Inconsequential Noncompliance

AGENCY: National Highway Traffic Safety Administration, DOT.

ACTION: Grant of petition.

SUMMARY: General Motors, LLC (GM) has determined that certain model year 2013 Cadillac XTS passenger cars do not fully comply with paragraph S9.1.1 of Federal Motor Vehicle Safety Standard (FMVSS) No. 108, Lamps, Reflective Devices, and Associated Equipment. GM has filed an appropriate report dated May 16, 2013, pursuant to 49 CFR part 573, Defect and Noncompliance Responsibility and Reports.

ADDRESSES: For further information on this decision contact Mike Cole, Office of Vehicle Safety Compliance, the National Highway Traffic Safety Administration (NHTSA), telephone (202) 366-2334, facsimile (202) 366-5930.

SUPPLEMENTARY INFORMATION:

I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

Notice of receipt of the petition was published, with a 30-day public comment period, on November 1, 2013 in the Federal Register (78 FR 65761). No comments were received. To view the petition and all supporting documents log onto the Federal Docket Management System (FDMS) Web site at: http://www.regulations.gov/. Then follow the online search instructions to locate docket number “NHTSA-2013-0081.”

II. Vehicles Involved: Affected are approximately 24,139 model year 2013 Cadillac XTS passenger cars manufactured from February 2, 2012 to May 2, 2013.

III. Noncompliance: GM has determined that the turn signal in the subject vehicles does not fully comply with paragraph S9.1.1 of FMVSS No. 108, which requires an active turn signal to cancel when the steering wheel is rotated. On some of the vehicles, the turn signal may occasionally not self-cancel by steering wheel rotation. The turn signal can be cancelled manually.

IV. Rule Text: Paragraph S9.1.1 of FMVSS No. 108 specifically states:

S9.1 Turn signal operating unit.

S9.1.1 The turn signal operating unit installed on passenger cars, multipurpose passenger vehicles, trucks, and buses less than 2032 mm in overall width must be self-canceling by steering wheel rotation and capable of cancellation by a manually operated control.

V. Summary of GM's Analyses: GM stated its belief that the subject noncompliance is inconsequential to motor vehicle safety for the following reasons:

This condition is inconsequential to motor vehicle safety for the following reasons:

1. Manual operation of the turn signal is unaffected. The driver can manually cancel the turn signal in the rare event the self-cancelling feature does not work.

2. If the turn signal does not self-cancel, the driver is alerted to the fact that the turn signal remains on through multiple means:

a. The turn signal telltale continues to flash;

b. The audible turn signal indicator persists as long as the turn signal is active;

c. The redundant turn signals (mounted on the outer edge of both outboard mirrors) that are visible to the driver continue to flash as long as the turn signal is active;

d. After traveling ¾ of a mile with the turn signal active, a Driver Information Center message, “TURN SIGNAL ON,” is displayed indicating a turn signal has been left on; and

e. The DIC message is accompanied by a single chime to alert the driver to the DIC message indicating the turn signal is still active.

3. GM records as of the week of 13 May 2013 indicate the condition declares itself early and is nearly always repaired within the first few months of service.

a. GM does not have a specific labor code for the subject condition. Through a search of all possibly related labor codes, GM found nineteen repairs that might possibly be associated with subject condition. Even conservatively including all nineteen repairs as related to the subject condition, the resulting warranty rate is projected very low at 1.8 IPTV in 36 Month in Service.

b. Of the nineteen repairs, five were repaired prior to customer delivery and nine were repaired in the first 2 months in service.

4. NHTSA has previously granted petitions for inconsequential that are similar to the subject noncompliance.

GM has additionally informed NHTSA that it has corrected the noncompliance so that all future production vehicles will comply with FMVSS No. 108.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA's Decision

NHTSA's Analysis: We have concluded that the vehicle, in addition to the required telltales, will alert the driver through multiple and persistent means when the turn signal is still active, and that the driver will be able to cancel the turn signal by using a manually operated control.

NHTSA's Decision: In consideration of the foregoing, NHTSA has decided that GM has met its burden of persuasion that the FMVSS No. 108 noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Jeffrey M. Giuseppe,
Acting Director, Office of Vehicle Safety Compliance.

[FR Doc. 2014-19303 Filed 8-14-14; 8:45 am]

BILLING CODE 4910-59-P